FEDERAL ELECTION COMMISSION

[Notice 2015-02]

Filing Dates for the New York Special Election in the 11th Congressional District

AGENCY: Federal Election Commission.

ACTION: Notice of filing dates for special election.

SUMMARY: New York has scheduled a Special General Election on May 5, 2015, to fill the U.S. House seat in the Eleventh Congressional District vacated by Representative Michael G. Grimm.

DATES: Committees required to file reports in connection with the Special General Election on May 5, 2015, shall file a 12-day Pre-General Report, and a 30-day Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the New York Special General Election shall file a 12-day Pre-General Report on April 23, 2015, and a 30-day Post-General Report on June 4, 2015. (See charts below for the closing date for each report.)

Unauthorized Committees (PACs and Party Committees)

Political committees filing on a semi-annual basis in 2015 are subject to special election reporting if they make previously undisclosed contributions or expenditures in connection with the New York Special General Election by the close of books for the applicable report(s). (See charts below for the closing date for each report.)

Committees filing monthly that make contributions or expenditures in connection with the New York Special General Election will continue to file according to the monthly reporting schedule.

Additional disclosure information in connection with the New York Special Election may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,600 during the special election reporting periods. (See charts below for closing date of each period.) 11 CFR 104.22(a)(5)(v), (b).

¹ These dates indicate the end of the reporting period. A reporting period always begins the day after the closing date of the last report filed. If the committee is new and has not previously filed a report, the first report must cover all activity that occurred before the committee registered as a political committee with the Commission up through the close of books for the first report due.

Calendar of Reporting Dates for New York Special Election—Quarterly Filing Committees Involved in the Special General (05/05/15) Must File
Report | Close of books ¹ | Reg./cert. and overnight mailing deadline | Filing deadline
April Quarterly | ——WAIVED ——
Pre-General | 04/15/15 | 04/20/15 | 04/23/15
Post-General | 05/25/15 | 06/04/15 | 06/04/15
July Quarterly | 06/30/15 | 07/15/15 | 07/15/15

Semi-annual Filing Committees Involved in the Special General (05/05/15) Must File
Report | Close of books ¹ | Reg./cert. and overnight mailing deadline | Filing deadline
Pre-General | 04/15/15 | 04/20/15 | 04/23/15
Post-General | 05/25/15 | 06/04/15 | 06/04/15
Mid-Year | 06/30/15 | 07/31/15 | 07/31/15

Dated: March 2, 2015.
On behalf of the Commission.
Ann M. Ravel,
Chair, Federal Election Commission.

[FR Doc. 2015-05175 Filed 3-5-15; 8:45 am]

BILLING CODE 6715-01-P